DEPARTMENT OF COMMERCE

National Oceanic and Atmospheric Administration

[I.D. 071304B]

New England Fishery Management Council; Public Meetings

AGENCY: National Marine Fisheries Service (NMFS), National Oceanic and Atmospheric Administration (NOAA), Commerce

ACTION: Notice of public meeting.

SUMMARY: The New England Fishery Management Council (Council) is scheduling a public meeting of its Research Steering Committee in August, 2004 to consider actions affecting New England fisheries in the exclusive economic zone (EEZ). Recommendations from this group will be brought to the full Council for formal consideration and action, if appropriate.

DATES: The meeting will be held on Tuesday, August 3, 2004 at 9:30 a.m.

ADDRESSES: The meeting will be held at the Sheraton Colonial, 1 Audubon Road, Wakefield, MA 01880; telephone: (781) 245-9300.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Research Steering Committee will: develop a description that applies to the “technical review” of research projects that will be evaluated by the committee; clarify its position on days-at-sea use, the disposition of catch and vessel compensation when boats are engaged in cooperative research; initiate a discussion of research priorities for 2005; and possibly conduct a review of a completed final report provided by NOAA Fisheries' cooperative research program using the RCS's recently developed process for project review.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: July 14, 2004.
Alan D. Risenhoover,
Acting Director, Office of Sustainable Fisheries, National Marine Fisheries Service.

[FR Doc. 04-16357 Filed 7-16-04; 8:45 am]

BILLING CODE 3510-22-S